DEPARTMENT OF COMMERCE

National Oceanic and Atmospheric Administration

RIN 0648-XE271

Takes of Marine Mammals Incidental to Specified Activities; Taking Marine Mammals Incidental to the Bravo Wharf Recapitalization Project

AGENCY: National Marine Fisheries Service (NMFS), National Oceanic and Atmospheric Administration (NOAA), Commerce.

ACTION: Notice; revision of an incidental harassment authorization.

SUMMARY: Notice is hereby given that we have revised an incidental harassment authorization (IHA) issued to the U.S. Navy (Navy) to incidentally harass, by Level B harassment only, one species of marine mammal during construction activities associated with a wharf recapitalization project at Naval Station Mayport, Florida. The project has been delayed and the effective dates revised accordingly.

DATES: This authorization is now effective from March 13, 2017, through March 12, 2018.

FOR FURTHER INFORMATION CONTACT: Laura McCue, Office of Protected Resources, NMFS, (301) 427-8401.

SUPPLEMENTARY INFORMATION:

Background

On July 21, 2015, we received a request from the Navy for authorization of the taking, by Level B harassment only, of marine mammals incidental to pile driving in association with the Bravo Wharf Recapitalization Project at Naval Station Mayport, Florida (NSM). A final version, which we deemed adequate and complete, was submitted on November 17, 2015. We published notice of a proposed IHA and request for comments on December 7, 2015 (80 FR 75978), and subsequently published final notice of our issuance of the IHA on August 9, 2016 (81 FR 52637). In-water work associated with the project was expected to be completed within the one-year timeframe of the IHA (effective dates originally December 1, 2016 through November 30, 2017). One species of marine mammal is expected to be affected by the specified activities: Bottlenose dolphin (Tursiops truncatus truncatus). This species may occur year-round in the action area. On January 23. 2017, the Navy informed us that no work had been performed relevant to the specified activity considered in the MMPA analysis and requested that the dates of the IHA be revised.

Summary of the Activity

The purpose of the project is to complete necessary repairs at an existing general purpose berthing wharf at NSM. The wharf is one of NSM's two primary deep-draft berths and is one of the primary ordnance handling wharves, and is in an advanced state of deterioration resulting in load restrictions. Construction of the replacement pier will require vibratory pile installation, with impact pile driving as a contingency. The entire project is expected to require a maximum of 130 in-water workdays over two phases within a 24-month period. This IHA would be valid from December 1, 2016 through November 30, 2017.

In order to rehabilitate Bravo Wharf, the Navy proposes to install a new steel sheet pile bulkhead at Bravo Wharf, requiring approximately 880 single sheet piles (Phase I—berths B-2 and B-3: 590; Phase II—berth B-1: 290). Vibratory driving will be the primary method of installation for all piles, although impact driving may be required as a contingency in the case of difficult subsurface driving conditions.

Effects to marine mammals from the specified activity are expected to result from underwater sound produced by vibratory and impact pile driving. In order to assess project impacts, the Navy used thresholds recommended by NMFS. The Navy assumed practical spreading loss and used empirically-measured source levels from representative pile driving events to estimate potential marine mammal exposures. The calculations predict that only Level B harassment would occur associated with pile driving activities, and required mitigation measures further ensure that no more than Level B harassment would occur.

Findings

Marine Mammal Protection Act (MMPA)—As required by the MMPA, in order to issue an IHA, we determined that (1) the required mitigation measures are sufficient to reduce the effects of the specified activities to the level of least practicable impact; (2) the authorized takes will have a negligible impact on the affected marine mammal species; (3) the authorized takes represent small numbers relative to the affected stock abundances; and (4) the Navy's activities will not have an unmitigable adverse impact on taking for subsistence purposes as no relevant subsistence uses of marine mammals are implicated by this action.

National Environmental Policy Act (NEPA)—The Navy prepared an Environmental Assessment analyzing the project. We reviewed the EA and the public comments received and determined that it was appropriate to adopt the document in order to assess the impacts to the human environment of issuance of an IHA to the Navy. We signed a Finding of No Significant Impact on July 25, 2016.

Endangered Species Act (ESA)—There are no ESA-listed marine mammals expected to occur in the action area. Therefore, the Navy did not request authorization of the incidental take of ESA-listed species and no such authorization was issued; therefore, no consultation under the ESA was required.

Summary of the Revision

Construction activities have been delayed for the project due to delays from construction activities at another wharf in NSM, where they are allowed to only have one out-of-service wharf at a time. No in-water work has occurred, including all aspects of the specified activity considered in our issuance of the IHA. The IHA, as issued, is a one-year IHA with no consideration of seasonality in timing any component of the specified activity. Therefore, shifting the effective dates of the IHA to accommodate the Navy's delayed schedule for this project has no effect on our analysis of project impacts and does not affect our findings. NOAA's new acoustic guidance was published in the Federal Register on August 4, 2016 (81 FR 51693) after the original IHA was issued. We are not considering this information here; the change to the effective dates is the only change to this IHA. No other new information is available that would substantively affect our analyses under the MMPA, NEPA, or ESA. All mitigation, monitoring, and reporting measures described in our notice of issuance of the IHA remain in effect. The species for which take was authorized and the numbers of incidences of take authorized are unchanged.

As a result of the foregoing, we have revised the IHA issued to the Navy to conduct the specified activities in Naval Station Mayport, FL. Originally valid for 1 year, from December 1, 2013, through November 30, 2014, the IHA now becomes effective on March 13, 2017, and is valid for one year, until March 12, 2018.

Dated: February 16, 2017.
Donna S. Wieting,
Director, Office of Protected Resources, National Marine Fisheries Service.

[FR Doc. 2017-03410 Filed 2-21-17; 8:45 am]

BILLING CODE 3510-22-P